DEPARTMENT OF LABOR

Employment and Training Administration

[TA-W-62,069; TA-W-62,069A]

Delphi Corporation, Automotive Holding Group, Plant 6, Currently Known as General Motors Corporation, Including On-Site Leased Workers From Securitas, EDS, Bartech and Mays Chemicals, Flint, MI; Delphi Corporation, Automotive Holding Group, Plant 2, Currently Known as General Motors Corporation, Including On-Site Leased Workers From Securitas, EDS, Bartech and Mays Chemicals, Flint, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on October 1, 2007, applicable to workers of Delphi Corporation, Automotive Holding Group, Plant 6, including on-site leased workers from Securitas, EDS, Bartech and Mays Chemicals, Flint, Michigan and Delphi Corporation, Automotive Holding Group, Plant 2, including on-site leased workers from Securitas, EDS, Bartech and Mays Chemicals, Flint, Michigan. The Department's Notice of determination was published in the Federal Register on October 17, 2007 (72 FR 58899).

At the request of the State agency, the Department reviewed the certification for workers of the subject firm. Workers at Plant 6 produced automotive air induction products and workers at Plant 2 produced automotive modular reservoir assemblies and sub components.

New information shows that on January 1, 2009, workers at the subject firm became employees of General Motors Corporation. Some of the workers' wages are being reported under the Unemployment Insurance (UI) tax account for General Motors Corporation.

The intent of the Department's certification is to include all workers of Delphi Corporation, Automotive Holding Group, Plant 6, and Delphi Corporation, Automotive Holding Group, Plant 2, who were adversely affected by a shift in production of automotive air induction products and automotive modular reservoir assemblies and sub components to Mexico. Therefore, the Department is amending these certifications to include workers whose wages are being to General Motors Corporation.

The amended notice applicable to TA-W-62,069 and TA-W-62,069A is hereby issued as follows:

All workers of Delphi Corporation, Automotive Holding Group, Plant 6, currently known as General Motors Corporation, including on-site leased workers from Securitas, EDS, Bartech, and Mays Chemicals, Flint, Michigan (TA-W-62,069) and Delphi Corporation, Automotive Holding Group, Plant 2, currently known as General Motors Corporation, including on-site leased workers from Securitas, EDS, Bartech and Mays Chemicals, Flint, Michigan (TA-W-62,069A), who became totally or partially separated from employment on or after August 27, 2006 through October 1, 2009, are eligible to apply for adjustment assistance under Section 223 of the Trade Act of 1974, and are also eligible to apply for alternative trade adjustment assistance under Section 246 of the Trade Act of 1974.

Signed at Washington, DC, this 17th day of February 2009.
Linda G. Poole,
Certifying Officer, Division of Trade Adjustment Assistance.

[FR Doc. E9-4393 Filed 3-2-09; 8:45 am]

BILLING CODE 4510-FN-P